DEPARTMENT OF HEALTH AND HUMAN SERVICES

National Institutes of Health

National Institute of Nursing Research; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Special Emphasis Panel; Modular Budget Research Project Grant for NIH Nurse Scientist Scholars.

Date: February 5, 2021.

Time: 10:00 a.m. to 3:00 p.m.

Agenda: To review and evaluate grant applications.

Place: National Institute of Nursing Research, National Institutes of Health, 6701 Democracy Boulevard, Bethesda, MD 20892 (Virtual Meeting).

Contact Person: Ming Yan, MD, Ph.D., Scientific Review Officer, Immunology (IMM), DPPS, Center for Scientific Review, National Institutes of Health, 6701 Rockledge Drive, RM 4205, Bethesda, MD 20892, (301) 594-0343, yanming@mail.nih.gov.

Name of Committee: National Institute of Nursing Research Special Emphasis Panel; Fellowship and Career Development.

Date: February 19, 2021.

Time: 10:00 a.m. to 2:00 p.m.

Agenda: To review and evaluate grant applications.

Place: National Institute of Nursing Research, National Institutes of Health, 6701 Democracy Boulevard, Bethesda, MD 20892 (Virtual Meeting).

Contact Person: Ming Yan, MD, Ph.D., Scientific Review Officer, Immunology (IMM), DPPS, Center for Scientific Review, National Institute of Nursing Research, National Institutes of Health, 6701 Rockledge Drive, RM 4205 Bethesda, MD 20892, (301) 594-0343, yanming@mail.nih.gov.

(Catalogue of Federal Domestic Assistance Program Nos. 93.361, Nursing Research, National Institutes of Health, HHS)

Dated: January 8, 2021.
Tyeshia Roberson,
Program Analyst, Office of Federal Advisory Committee Policy.

[FR Doc. 2021-00651 Filed 1-13-21; 8:45 am]

BILLING CODE 4140-01-P